INTERNATIONAL TRADE COMMISSION

Notice of Appointment of Individuals To Serve as Members of the Performance Review Board

AGENCY: United States International Trade Commission.

ACTION: Appointment of Individuals to Serve as Members of Performance Review Board.

DATES: Applicable Date: September 20, 2022.

FOR FURTHER INFORMATION CONTACT: Eric Mozie, Director of Human Resources, or Ronald Johnson, U.S. International Trade Commission (202) 205-2651.

SUPPLEMENTARY INFORMATION: The Chairman of the U.S. International Trade Commission has appointed the following individuals to serve on the Commission's Performance Review Board (PRB):

Chair of the PRB: Commissioner Amy Karpel

Vice-Chair of the PRB: Commissioner Randolph Stayin

Member—John Ascienzo

Member—Dominic Bianchi

Member—Nannette Christ

Member—Catherine DeFilippo

Member—Margaret Macdonald

Member—William Powers

Member—Keith Vaughn

This notice is published in the Federal Register pursuant to the requirement of 5 U.S.C. 4314(c)(4). Hearing impaired individuals are advised that information on this matter can be obtained by contacting our TDD terminal on (202) 205-1810.

By order of the Chairman.
Issued: September 20, 2022.
Katherine Hiner,
Acting Secretary to the Commission.

[FR Doc. 2022-20722 Filed 9-23-22; 8:45 am]

BILLING CODE 7020-02-P